NUCLEAR REGULATORY COMMISSION

10 CFR Parts 1, 2, 37, 40, 50, 51, 52, 55, 71, 72, 73, 74, 100, 140, and 150

[NRC-2019-0170]

RIN 3150-AK37

Organizational Changes and Conforming Amendments

AGENCY: Nuclear Regulatory Commission.

ACTION: Final rule.

SUMMARY: The U.S. Nuclear Regulatory Commission (NRC) is amending its regulations to reflect internal organizational changes and make conforming amendments. These changes include removing all references to the Office of New Reactors because that office has merged with the Office of Nuclear Reactor Regulation, changing the names of divisions that are affected by the reorganization of the Office of Nuclear Material Safety and Safeguards, and making conforming amendments throughout the regulations to reflect the office merger and the office reorganization. This document is necessary to inform the public of these non-substantive amendments to the NRC's regulations.

DATES: This final rule is effective on December 30, 2020.

ADDRESSES: Please refer to Docket ID NRC-2019-0170 when contacting the NRC about the availability of information for this action. You may obtain publicly-available information related to this action by any of the following methods:

• Federal Rulemaking Website: Go to https://www.regulations.gov and search for Docket ID NRC-2019-0170. Address questions about NRC dockets to Carol Gallagher; telephone: 301-415-3463; email: Carol.Gallagher@nrc.gov.

• NRC's Agencywide Documents Access and Management System (ADAMS): You may obtain publicly-available documents online in the ADAMS Public Documents Collection at http://www.nrc.gov/reading-rm/adams.html. To begin the search, select “Begin Web-based ADAMS Search.” For problems with ADAMS, please contact the NRC's Public Document Room (PDR) reference staff at 1-800-397-4209, 301-415-4737, or by email to pdr.resource@nrc.gov.

• NRC's PDR: You may examine and purchase copies of public documents at the NRC's PDR, Room O1-F21, One White Flint North, 11555 Rockville Pike, Rockville, Maryland 20852.

FOR FURTHER INFORMATION CONTACT: Jill Shepherd, Office of Nuclear Material Safety and Safeguards, U.S. Nuclear Regulatory Commission, Washington, DC 20555-0001; telephone: 301-415-1230; email: Jill.Shepherd@nrc.gov.

SUPPLEMENTARY INFORMATION:

I. Introduction

The NRC is amending its regulations in parts 1, 2, 37, 40, 50, 51, 52, 55, 71, 72, 73, 74, 100, 140, and 150 of title 10 of the Code of Federal Regulations (10 CFR) to reflect internal organizational changes and conforming amendments. These changes include removing all references to the Office of New Reactors because that office has merged with the Office of Nuclear Reactor Regulation, changing the names of divisions that are affected by the reorganization of the Office of Nuclear Material Safety and Safeguards, and making conforming amendments throughout the regulations to reflect the office merger and the office reorganization. This document is necessary to inform the public of these non-substantive amendments to the NRC's regulations.

II. Summary of Changes

10 CFR Part 1

Remove Section. Section 1.44 is removed in its entirety because the Office of New Reactors has merged with the Office of Nuclear Reactor Regulation.

10 CFR Parts 1, 2, 37, 50, 51, 52, 55, 73, 100, and 140

Remove Office Name. In §§ 1.32(b), 2.101, 2.102, 2.103, 2.105(e)(1), 2.106(a), 2.107(c), 2.108, 2.110, 2.318(b), 2.337(g), 2.340, 2.403, 2.603, 2.621, 2.629(a), 2.811(c), 37.7(a), 50.30(a), 50.55a(z), 50.61, 50.70(b), and 50.75(h), appendices G, H, and J to 10 CFR part 50, §§ 51.4, 51.40(c)(1), 51.58, 51.105(a)(5), 51.105a, 51.107(a)(5), 51.121(a), 52.15(a), 52.35, 52.75(a), 55.5, 73.4(a), 100.4, 140.5, and 140.6(a), this final rule removes all references to the Office of New Reactors and its director, because that office has merged with the Office of Nuclear Reactor Regulation.

10 CFR Part 2

Correct Title Name and Division. In § 2.4, this final rule updates the definition of “Commission adjudicatory employee” by replacing the title Associate General Counsel for Licensing and Regulation to read as the Deputy General Counsel for Rulemaking and Policy Support. This title and division were renamed to reflect the reorganization of the Office of Nuclear Material Safety and Safeguards and the merger of the Office of New Reactors with the Office of Nuclear Reactor Regulation.

Remove Word and Phrases That Are No Longer Applicable. In §§ 2.101 and 2.340, this final rule removes the word “appropriate” and various iterations of the phrase “or as appropriate” when referring to the Director, because the reference is now to only one Director.

Correct Division Name. In § 2.802(b), this final rule corrects the title Division of Rulemaking to read as the Division of Rulemaking, Environmental, and Financial Support. The division was renamed during the reorganization of the Office of Nuclear Material Safety and Safeguards.

Correct Division Name. In § 2.811(e), this final rule corrects the title Division of New Reactor Licensing to read as the Division of New and Renewed Licenses. The division was renamed when the Office of New Reactors merged with the Office of Nuclear Reactor Regulation.

10 CFR Parts 2, 50, 51, and 52

Remove Office Name. In §§ 2.643(a), 50.10(e)(1), 51.107(d), 52.1(a), 52.91(a), and 52.155(a), this final rule removes all references to the Director of New Reactors (an erroneous version of the Director of the Office of New Reactors) because that office has now merged with the Office of Nuclear Reactor Regulation.

10 CFR Parts 2 and 51

Correct Branch, Division, and Office Names. In §§ 2.811(e) and 51.121(d), this final rule corrects the titles Rules, Announcements, and Directives Branch and Rules, Announcements, and Directives Branch, Office of Administration, to read as the Regulatory Analysis and Rulemaking Support Branch, Division of Rulemaking, Environmental, and Financial Support, Office of Nuclear Material Safety and Safeguards. The division was renamed during the reorganization of the Office of Nuclear Material Safety and Safeguards, the branch was relocated, and the branch name was not corrected following an earlier reorganization.

10 CFR Parts 40, 72, 73, 74, and 150

Correct Division Name. In §§ 40.64(a) and (b)(2), 72.76(a), 72.78(a), 73.46(i)(1), 74.13(a), 74.15(a), 150.16(a)(1), and 150.17(a), this final rule corrects the titles Division of Fuel Cycle Safety, Safeguards, and Environmental Review and Division of Fuel Cycle Safety Safeguards, and Environmental Review to read as the Division of Fuel Management. These two divisions were merged during the reorganization of the Office of Nuclear Material Safety and Safeguards.

10 CFR Part 51

Correct Branch, Division, and Office Names. In § 51.40(c)(4), this final rule updates contact information and corrects the title Rules and Directives Branch, Office of Administration, to read as the Regulatory Analysis and Rulemaking Support Branch, Division of Rulemaking, Environmental, and Financial Support, Office of Nuclear Material Safety and Safeguards. The division was renamed during the reorganization of the Office of Nuclear Material Safety and Safeguards, the branch was relocated, and the branch name was not corrected following an earlier reorganization.

10 CFR Part 55

Correct Division Name. In § 55.5(b)(3), this final rule corrects the title Division of Policy and Rulemaking to read as the Division of Advanced Reactors and Non-Power Production and Utilization Facilities. The division was renamed when the Office of New Reactors merged with the Office of Nuclear Reactor Regulation.

10 CFR Part 71

Correct Division Name. In § 71.17(c)(3), this final rule corrects the title Division of Spent Fuel Storage and Transportation to read as the Division of Fuel Management. The division was renamed during the reorganization of the Office of Nuclear Material Safety and Safeguards.

10 CFR Parts 71 and 72

Correct Division Name. In §§ 71.1(a), 71.95(c), 71.101(c)(1), 72.4, 72.16(a), and 72.44(f), this final rule corrects the title Division of Spent Fuel Management to read as the Division of Fuel Management. The division was renamed during the reorganization of the Office of Nuclear Material Safety and Safeguards.

10 CFR Part 150

Correct Division Name. In §§ 150.16(a)(2) and 150.17(b)(2), this final rule corrects the title Division of Fuel Cycle Safety and Safeguards to read as the Division of Fuel Management. The division was renamed during the reorganization of the Office of Nuclear Material Safety and Safeguards.

III. Rulemaking Procedure

Under section 553(b) of the Administrative Procedure Act (5 U.S.C. 553(b)), an agency may waive the requirements for publication in the Federal Register of a notice of proposed rulemaking and opportunity for comment if it finds, for good cause, that it is impracticable, unnecessary, or contrary to the public interest. As authorized by 5 U.S.C. 553(b)(3)(B), the NRC finds good cause to waive notice and opportunity for comment on these amendments because notice and opportunity for comment are unnecessary. The amendments will have no substantive impact and are of a minor and administrative nature dealing with corrections to certain CFR sections or are related only to management, organization, procedure, and practice. These changes include removing all references to the Office of New Reactors because that office has merged with the Office of Nuclear Reactor Regulation, changing the names of divisions that are affected by the reorganization of the Office of Nuclear Material Safety and Safeguards, and making conforming amendments throughout the regulations to reflect the office merger and the office reorganization. The NRC is exercising its authority under 5 U.S.C. 553(b) to publish these amendments as a final rule. The amendments are effective on December 30, 2019. These amendments do not require action by any person or entity regulated by the NRC and do not change the substantive responsibilities of any person or entity regulated by the NRC.

IV. Environmental Impact: Categorical Exclusion

The NRC has determined that this final rule is the type of action described in 10 CFR 51.22(c)(2), which categorically excludes from environmental review rules that are corrective or of a minor, nonpolicy nature and do not substantially modify existing regulations. Therefore, neither an environmental impact statement nor an environmental assessment has been prepared for this rule.

V. Paperwork Reduction Act

This final rule does not contain a collection of information as defined in the Paperwork Reduction Act of 1995 (44 U.S.C. 3501 et seq.) and, therefore, is not subject to the requirements of the Paperwork Reduction Act of 1995.

Public Protection Notification

The NRC may not conduct or sponsor, and a person is not required to respond to, a collection of information unless the document requesting or requiring the collection displays a currently valid Office of Management and Budget control number.

VI. Plain Writing

The Plain Writing Act of 2010 (Pub. L. 111-274) requires Federal agencies to write documents in a clear, concise, and well-organized manner. The NRC has written this document to be consistent with the Plain Writing Act as well as the Presidential Memorandum, “Plain Language in Government Writing,” published June 10, 1998 (63 FR 31883).

VII. Backfitting and Issue Finality

The NRC has determined that the organizational changes and conforming amendments in this final rule do not constitute backfitting and are not inconsistent with any of the issue finality provisions in 10 CFR part 52. The changes and amendments are non-substantive in nature, including removing all references to the Office of New Reactors because that office has merged with the Office of Nuclear Reactor Regulation, changing the names of divisions that are affected by the reorganization of the Office of Nuclear Material Safety and Safeguards, and making conforming amendments throughout the regulations to reflect the office merger and the office reorganization. The organizational changes and conforming amendments impose no new requirements and make no substantive changes to the regulations. The organizational changes and conforming amendments do not involve any provisions that would impose backfits, as defined in 10 CFR chapter I, or would be inconsistent with the issue finality provisions in 10 CFR part 52. For these reasons, the issuance of the rule in final form would not constitute backfitting or represent a violation of any of the issue finality provisions in 10 CFR part 52. Therefore, the NRC has not prepared any additional documentation for this rulemaking addressing backfitting or issue finality.

VIII. Congressional Review Act

This final rule is not a rule as defined in the Congressional Review Act (5 U.S.C. 801-808).

IX. Agreement State Compatibility

Under the “Agreement State Program Policy Statement” approved by the Commission on October 2, 2017, and published in the Federal Register on October 18, 2017 (82 FR 48535), NRC program elements (including regulations) are placed into Compatibility Categories A, B, C, D, NRC, or Adequacy Category Health and Safety (H&S). Compatibility Category A program elements are those program elements that are basic radiation protection standards and scientific terms and definitions that are necessary to understand radiation protection concepts. An Agreement State should adopt Category A program elements in an essentially identical manner in order to provide uniformity in the regulation of agreement material on a nationwide basis. Compatibility Category B program elements are those program elements that apply to activities that have direct and significant effects in multiple jurisdictions. An Agreement State should adopt Category B program elements in an essentially identical manner. Compatibility Category C program elements are those program elements that do not meet the criteria of Category A or B but contain the essential objectives that an Agreement State should adopt to avoid conflict, duplication, gaps, or other conditions that would jeopardize an orderly pattern in the regulation of agreement material on a national basis. An Agreement State should adopt the essential objectives of the Category C program elements. Compatibility Category D program elements are those program elements that do not meet any of the criteria of Category A, B, or C and, therefore, do not need to be adopted by Agreement States for purposes of compatibility. Compatibility Category NRC program elements are those program elements that address areas of regulation that cannot be relinquished to the Agreement States under the Atomic Energy Act of 1954, as amended, or provisions of title 10 of the Code of Federal Regulations. These program elements should not be adopted by the Agreement States. Adequacy Category H&S program elements are program elements that are required because of a particular health and safety role in the regulation of agreement material within the State and should be adopted in a manner that embodies the essential objectives of the NRC program.

The final rule is a matter of compatibility between the NRC and the Agreement States, thereby providing consistency among Agreement State and NRC requirements. The compatibility categories are designated in the following table.

Compatibility Table
Section | Change | Subject | Compatibility: Existing | Compatibility: New
Part 37
§ 37.7(a) | Amend | Communications | D | D.
Part 40
§ 40.64 | Amend | Reports | NRC | NRC.
Part 71
§ 71.1 | Amend | Communications and records | D | D.
§ 71.17(c)(3) | Amend | General license: NRC-approved package | B | B.
§ 71.95 | Amend | Reports | D | D.
§ 71.101(c)(1) | Amend | Quality assurance requirements | C | C.
Part 150
§ 150.16(a)(2) | Amend | Submission to Commission of nuclear material transaction reports | NRC | NRC.
§ 150.17(b)(2) | Amend | Submission to Commission of nuclear material status reports | NRC | NRC.

List of Subjects

10 CFR Part 1

Flags, Organization and functions (Government Agencies), Seals and insignia.

10 CFR Part 2

Administrative practice and procedure, Antitrust, Byproduct material, Classified information, Confidential business information, Freedom of information, Environmental protection, Hazardous waste, Nuclear energy, Nuclear materials, Nuclear power plants and reactors, Penalties, Reporting and recordkeeping requirements, Sex discrimination, Source material, Special nuclear material, Waste treatment and disposal.

10 CFR Part 37

Byproduct material, Criminal penalties, Exports, Hazardous materials transportation, Imports, Licensed material, Nuclear materials, Penalties, Radioactive materials, Reporting and recordkeeping requirements, Security measures.

10 CFR Part 40

Criminal penalties, Exports, Government contracts, Hazardous materials transportation, Hazardous waste, Nuclear energy, Nuclear materials, Penalties, Reporting and recordkeeping requirements, Source material, Uranium, Whistleblowing.

10 CFR Part 50

Administrative practice and procedure, Antitrust, Backfitting, Classified information, Criminal penalties, Education, Emergency planning, Fire prevention, Fire protection, Incorporation by reference, Intergovernmental relations, Nuclear power plants and reactors, Penalties, Radiation protection, Reactor siting criteria, Reporting and recordkeeping requirements, Whistleblowing.

10 CFR Part 51

Administrative practice and procedure, Environmental impact statements, Hazardous waste, Nuclear energy, Nuclear power plants and reactors, Reporting and recordkeeping requirements.

10 CFR Part 52

Administrative practice and procedure, Antitrust, Combined license, Early site permit, Emergency planning, Fees, Incorporation by reference, Inspection, Issue finality, Limited work authorization, Nuclear power plants and reactors, Probabilistic risk assessment, Prototype, Reactor siting criteria, Redress of site, Penalties, Reporting and recordkeeping requirements, Standard design, Standard design certification.

10 CFR Part 55

Criminal penalties, Manpower training programs, Nuclear power plants and reactors, Penalties, Reporting and recordkeeping requirements.

10 CFR Part 71

Criminal penalties, Hazardous materials transportation, Incorporation by reference, Intergovernmental relations, Nuclear materials, Packaging and containers, Penalties, Radioactive materials, Reporting and recordkeeping requirements.

10 CFR Part 72

Administrative practice and procedure, Hazardous waste, Indians, Intergovernmental relations, Nuclear energy, Penalties, Radiation protection, Reporting and recordkeeping requirements, Security measures, Spent fuel, Whistleblowing.

10 CFR Part 73

Criminal penalties, Exports, Hazardous materials transportation, Incorporation by reference, Imports, Nuclear energy, Nuclear materials, Nuclear power plants and reactors, Penalties, Reporting and recordkeeping requirements, Security measures.

10 CFR Part 74

Accounting, Criminal penalties, Hazardous materials transportation, Material control and accounting, Nuclear energy, Nuclear materials, Packaging and containers, Penalties, Radiation protection, Reporting and recordkeeping requirements, Scientific equipment, Special nuclear material.

10 CFR Part 100

Nuclear power plants and reactors, Radiation protection, Reactor siting criteria, Reporting and recordkeeping requirements.

10 CFR Part 140

Criminal penalties, Extraordinary nuclear occurrence, Insurance, Intergovernmental relations, Nuclear materials, Nuclear power plants and reactors, Penalties, Reporting and recordkeeping requirements.

10 CFR Part 150

Criminal penalties, Hazardous materials transportation, Intergovernmental relations, Nuclear energy, Nuclear materials, Penalties, Reporting and recordkeeping requirements, Security measures, Source material, Special nuclear material.

For the reasons set out in the preamble and under the authority of the Atomic Energy Act of 1954, as amended; the Energy Reorganization Act of 1974, as amended; and 5 U.S.C. 552 and 553, the NRC is adopting the following amendments to 10 CFR chapter I:

PART 1—STATEMENT OF ORGANIZATION AND GENERAL INFORMATION

1. The authority citation for part 1 continues to read as follows:

Authority: Atomic Energy Act of 1954, secs. 23, 25, 29, 161, 191 (42 U.S.C. 2033, 2035, 2039, 2201, 2241); Energy Reorganization Act of 1974, secs. 201, 203, 204, 205, 209 (42 U.S.C. 5841, 5843, 5844, 5845, 5849); Administrative Procedure Act (5 U.S.C. 552, 553); Reorganization Plan No. 1 of 1980, 5 U.S.C. Appendix (Reorganization Plans).

§ 1.32 [Amended]

2. In § 1.32(b), remove “the Office of New Reactors,”.

§ 1.44 [Removed and Reserved]

3. Remove and reserve § 1.44.

PART 2—AGENCY RULES OF PRACTICE AND PROCEDURE

4. The authority citation for part 2 continues to read as follows:

Authority: Atomic Energy Act of 1954, secs. 29, 53, 62, 63, 81, 102, 103, 104, 105, 161, 181, 182, 183, 184, 186, 189, 191, 234 (42 U.S.C. 2039, 2073, 2092, 2093, 2111, 2132, 2133, 2134, 2135, 2201, 2231, 2232, 2233, 2234, 2236, 2239, 2241, 2282); Energy Reorganization Act of 1974, secs. 201, 206 (42 U.S.C. 5841, 5846); Nuclear Waste Policy Act of 1982, secs. 114(f), 134, 135, 141 (42 U.S.C. 10134(f), 10154, 10155, 10161); Administrative Procedure Act (5 U.S.C. 552, 553, 554, 557, 558); National Environmental Policy Act of 1969 (42 U.S.C. 4332); 44 U.S.C. 3504 note.

Section 2.205(j) also issued under 28 U.S.C. 2461 note.

Section 2.205(j) also issued under Sec. 31001(s), Pub. L. 104-134, 110 Stat. 1321-373 (28 U.S.C. 2461 note).

§ 2.4 [Amended]

5. In § 2.4, in the definition for Commission adjudicatory employee, paragraph (6), remove “the Associate General Counsel for Licensing and Regulation” and add in its place “the Deputy General Counsel for Rulemaking and Policy Support”.

§ 2.101 [Amended]

6. In § 2.101:

a. In paragraph (a)(1), remove “the Director, Office of New Reactors,”;

b. In paragraph (a)(3) introductory text, remove “Director, Office of New Reactors,”;

c. In paragraph (a)(3)(i), remove “Director, Office of New Reactors,”;

d. In paragraph (a)(3)(ii), remove “the Director, Office of New Reactors or Director, Office of Nuclear Reactor Regulation, as appropriate,” and add in its place the title “the Director, Office of Nuclear Reactor Regulation,”;

e. In paragraph (a)(3)(iii), wherever it appears, remove “Director, Office of New Reactors,”;

f. In paragraph (a)(3)(iii), remove the phrase “or, as appropriate,” and add in its place the phrase “as appropriate,”;

g. In paragraphs (a)(4) and (5), wherever it appears, remove “Director, Office of New Reactors,”;

h. In paragraph (b), remove “Director, Office of Nuclear Material Safety and Safeguards or as appropriate,” and add in its place “Director, Office of Nuclear Material Safety and Safeguards,”;

i. In paragraph (d), remove “Director, Office of New Reactors,”; and

j. In paragraphs (e)(3), (e)(6) through (8), and (f), wherever it appears, remove the phrase “as appropriate”.

§§ 2.102, 2.103, 2.105, 2.106, 2.107, 2.108, 2.318, and 2.337 [Amended]

6. In §§ 2.102, 2.103, 2.105, 2.106, 2.107, 2.108, 2.318, and 2.337, wherever it appears, remove “Director, Office of New Reactors,”.

§ 2.110 [Amended]

8. In § 2.110:

a. In paragraph (b), remove “the Director, Office of New Reactors, or Director, Office of Nuclear Reactor Regulation, as appropriate” and add in its place “the Director, Office of Nuclear Reactor Regulation,” and

b. In paragraph (c)(1), remove “the Director, Office of New Reactors or Director, Office of Nuclear Reactor Regulation, as appropriate” and add in its place the title “the Director, Office of Nuclear Reactor Regulation,”.

§ 2.340 [Amended]

9. In § 2.340:

a. Wherever it appears, remove “the Commission, the Director, Office of Nuclear Reactor Regulation, or the Director, Office of New Reactors, as appropriate” and add in its place the titles “the Commission or the Director, Office of Nuclear Reactor Regulation, as appropriate”;

b. In paragraph (e)(1), second sentence, remove “, or as appropriate”;

c. In paragraph (e)(1), third sentence, remove “or as appropriate”;

d. In paragraph (e)(2)(i), remove “the Commissionor the Director, Office of Nuclear Material Safety and Safeguards, or as appropriate,” and add in its place “the Commission or the Director, Office of Nuclear Material Safety and Safeguards, as appropriate,”;

e. In paragraph (e)(2)(ii), wherever it appears, remove “the Commission, the Director, Office of Nuclear Material Safety and Safeguards, or as appropriate,” and add in its place “the Commission or the Director, Office of Nuclear Material Safety and Safeguards, as appropriate,”;

f. In the paragraph (i) introductory text, remove “The Commission, the Director, Office of New Reactors, or the Director, Office of Nuclear Reactor Regulation, as appropriate,” and add in its place “The Commission or the Director, Office of Nuclear Reactor Regulation, as appropriate,”;

g. In paragraphs (i)(1) and (k)(1), remove “appropriate Director” and add in its place “Director”;

h. In paragraph (j) introductory text, remove “The Commission, the Director of the Office of New Reactors, or the Director of the Office of Nuclear Reactor Regulation, as appropriate,” and add in its place “The Commission or the Director, Office of Nuclear Reactor Regulation, as appropriate,”;

i. In paragraphs (j)(1) through (3), remove “appropriate director” and add in its place “Director”; and

j. In paragraph (k) introductory text, remove “The Commissionor the Director, Office of Nuclear Material Safety and Safeguards, or as appropriate,” and add in itsplace “The Commission or the Director, Office of Nuclear Material Safety and Safeguards, as appropriate,”.

§ 2.403 [Amended]

10. In § 2.403, remove “the Commission, the Director, Office of New Reactors or Director, Office of Nuclear Reactor Regulation, as appropriate” and add in its place “the Commission or the Director, Office of Nuclear Reactor Regulation, as appropriate,”.

§§ 2.603 and 2.621 [Amended]

11. In §§ 2.603 and 2.621:

a. Wherever it appears, remove “the Director of the Office of New Reactors or the Director of the Office of Nuclear Reactor Regulation, as appropriate,” and add in its place “the Director of the Office of Nuclear Reactor Regulation”; and

b. Wherever it appears, remove “The Director of the Office of New Reactors or the Director of the Office of Nuclear Reactor Regulation, as appropriate,” and add in its place “The Director of the Office of Nuclear Reactor Regulation”.

§ 2.629 [Amended]

12. In § 2.629(a), remove “the Director of the Office of New Reactors or the Director of the Office of Nuclear Reactor Regulation, as appropriate,” and add in its place “the Director of the Office of Nuclear Reactor Regulation”.

§ 2.643 [Amended]

13. In § 2.643(a), remove “the Director of New Reactors or the Director of Nuclear Reactor Regulation” and add in its place “the Director of the Office of Nuclear Reactor Regulation”.

§ 2.802 [Amended]

14. In § 2.802(b) introductory text, remove “Division of Rulemaking” and add in its place “Division of Rulemaking, Environmental, and Financial Support”.

15. In § 2.811:

a. In paragraph (c), remove “the Director, Office of New Reactors,”;

b. In paragraph (e), first sentence, remove “Division of New Reactor Licensing” and add in its place “Division of New and Renewed Licenses”,

c. Revise the second sentence in paragraph (e).

The revision reads as follows:

§ 2.811 Filing of standard design certification application; required copies.

* * * * *

(e) * * * A prospective applicant also may telephone the Regulatory Analysis and Rulemaking Support Branch, Division of Rulemaking, Environmental, and Financial Support, Office of Nuclear Material Safety and Safeguards, toll free on 1-800-368-5642 on these subject matters. * * *

PART 37—PHYSICAL PROTECTION OF CATEGORY 1 AND CATEGORY 2 QUANTITIES OF RADIOACTIVE MATERIAL

16. The authority citation for part 37 continues to read as follows:

Authority: Atomic Energy Act of 1954, secs. 11, 53, 81, 103, 104, 147, 148, 149, 161, 182, 183, 223, 234, 274 (42 U.S.C. 2014, 2073, 2111, 2133, 2134, 2167, 2168, 2169, 2201, 2232, 2233, 2273, 2282, 2021); Energy Reorganization Act of 1974, secs. 201, 202 (42 U.S.C. 5841, 5842); 44 U.S.C. 3504 note.

§ 37.7 [Amended]

17. In § 37.7(a), remove “; Director, Office of New Reactors;”.

PART 40—DOMESTIC LICENSING OF SOURCE MATERIAL

18. The authority citation for part 40 continues to read as follows:

Authority: Atomic Energy Act of 1954, secs. 62, 63, 64, 65, 69, 81, 83, 84, 122, 161, 181, 182, 183, 184, 186, 187, 193, 223, 234, 274, 275 (42 U.S.C. 2092, 2093, 2094, 2095, 2099, 2111, 2113, 2114, 2152, 2201, 2231, 2232, 2233, 2234, 2236, 2237, 2243, 2273, 2282, 2021, 2022); Energy Reorganization Act of 1974, secs. 201, 202, 206, 211 (42 U.S.C. 5841, 5842, 5846, 5851); Uranium Mill Tailings Radiation Control Act of 1978, sec. 104 (42 U.S.C. 7914); 44 U.S.C. 3504 note.

§ 40.64 [Amended]

19. In § 40.64(a) and (b)(2), remove “Division of Fuel Cycle Safety, Safeguards, and Environmental Review” and add in its place “Division of Fuel Management”.

PART 50—DOMESTIC LICENSING OF PRODUCTION AND UTILIZATION FACILITIES

20. The authority citation for part 50 continues to read as follows:

Authority: Atomic Energy Act of 1954, secs. 11, 101, 102, 103, 104, 105, 108, 122, 147, 149, 161, 181, 182, 183, 184, 185, 186, 187, 189, 223, 234 (42 U.S.C. 2014, 2131, 2132, 2133, 2134, 2135, 2138, 2152, 2167, 2169, 2201, 2231, 2232, 2233, 2234, 2235, 2236, 2237, 2239, 2273, 2282); Energy Reorganization Act of 1974, secs. 201, 202, 206, 211 (42 U.S.C. 5841, 5842, 5846, 5851); Nuclear Waste Policy Act of 1982, sec. 306 (42 U.S.C. 10226); National Environmental Policy Act of 1969 (42 U.S.C. 4332); 44 U.S.C. 3504 note; Sec. 109, Pub. L. 96-295, 94 Stat. 783.

§ 50.10 [Amended]

21. In § 50.10(e)(1) introductory text, remove “Director of New Reactors or the Director of Nuclear Reactor Regulation” and add in its place “Director of the Office of Nuclear Reactor Regulation”.

§ 50.30 [Amended]

22. In § 50.30:

a. In paragraph (a)(2), remove “Director, Office of New Reactors,”; and

b. In paragraph (a)(6), remove “the Director, Office of New Reactors, or”.

§ 50.55a [Amended]

23. In § 50.55a(z) introductory text, remove “, or Director, Office of New Reactors, as appropriate”.

§ 50.61 [Amended]

24. In § 50.61, wherever it appears, remove “or Director, Office of New Reactors, as appropriate”.

§ 50.70 [Amended]

25. In § 50.70:

a. In paragraph (b)(1), remove “or Director, Office of New Reactors, as appropriate”; and

b. In paragraph (b)(2), remove “the Director, Office of New Reactors, or”.

§ 50.75 [Amended]

26. In § 50.75, wherever it appears, remove “Director, Office of New Reactors,”.

Appendices G, H, and J to Part 50 [Amended]

27. In appendices G, H, and J to part 50:

a. Wherever it appears, remove “or the Director, Office of New Reactors, as appropriate”; and

b. Wherever it appears, remove “or Director, Office of New Reactors, as appropriate”.

PART 51—ENVIRONMENTAL PROTECTION REGULATIONS FOR DOMESTIC LICENSING AND RELATED REGULATORY FUNCTIONS

28. The authority citation for part 51 continues to read as follows:

Authority: Atomic Energy Act of 1954, secs. 161, 193 (42 U.S.C. 2201, 2243); Energy Reorganization Act of 1974, secs. 201, 202 (42 U.S.C. 5841, 5842); National Environmental Policy Act of 1969 (42 U.S.C. 4332, 4334, 4335); Nuclear Waste Policy Act of 1982, secs. 144(f), 121, 135, 141, 148 (42 U.S.C. 10134(f), 10141, 10155, 10161, 10168); 44 U.S.C. 3504 note.

Sections 51.20, 51.30, 51.60, 51.80, and 51.97 also issued under Nuclear Waste Policy Act secs. 135, 141, 148 (42 U.S.C. 10155, 10161, 10168).

Section 51.22 also issued under Atomic Energy Act sec. 274 (42 U.S.C. 2021) and under Nuclear Waste Policy Act sec. 121 (42 U.S.C. 10141).

Sections 51.43, 51.67, and 51.109 also issued under Nuclear Waste Policy Act sec. 114(f) (42 U.S.C. 10134(f)).

§ 51.4 [Amended]

29. In § 51.4, in the definition for NRC Staff Director, remove “Director, Office of New Reactors;”.

30. In § 51.40:

a. In paragraph (c)(1), remove “or Director, Office of New Reactors, as appropriate”; and

b. Revise paragraph (c)(4).

The revision reads as follows:

§ 51.40 Consultation with NRC staff.

* * * * *

(c) * * *

(4) Rulemaking: ATTN: Chief, Regulatory Analysis and Rulemaking Support Branch, Division of Rulemaking, Environmental, and Financial Support, Office of Nuclear Material Safety and Safeguards, U.S. Nuclear Regulatory Commission, Washington, DC 20555-0001, telephone (800) 368-5642.

* * * * *

§ 51.58 [Amended]

31. In § 51.58:

a. In paragraph (a), first sentence, remove “, the Director of the Office of New Reactors,” and add in its place the word “or”;

b. In paragraph (a), last sentence, remove “the Director of the Office of New Reactors, the Director of the Office of Nuclear Reactor Regulation,” and add in its place the title “the Director of the Office of Nuclear Reactor Regulation”; and

c. In paragraph (b), remove “the Director of the Office of New Reactors or”.

§§ 51.105 and 51.105a [Amended]

32. In §§ 51.105 and 51.105a, wherever it appears, remove “Director, Office of New Reactors or Director, Office of Nuclear Reactor Regulation, as appropriate” and add in its place “Director, Office of Nuclear Reactor Regulation”.

§ 51.107 [Amended]

33. In § 51.107:

a. Wherever it appears, remove “Director of New Reactors or the Director of Nuclear Reactor Regulation, as applicable” and add in its place the title “Director, Office of Nuclear Reactor Regulation”; and

b. In paragraph (a)(5), remove “Director, Office of New Reactors or Director, Office of Nuclear Reactor Regulation, as appropriate” and add in its place “Director, Office of Nuclear Reactor Regulation”.

34. In § 51.121:

a. In paragraph (a), remove “Director, Office of Nuclear Reactor Regulation or Director, Office of New Reactors, as appropriate,” and add in its place “Director, Office of Nuclear Reactor Regulation,”; and

b. Revise paragraph (d).

The revision reads as follows:

§ 51.121 Status of NEPA actions.

* * * * *

(d) Rulemaking: ATTN: Chief, Regulatory Analysis and Rulemaking Support Branch, Division of Rulemaking, Environmental, and Financial Support, Office of Nuclear Material Safety and Safeguards, U.S. Nuclear Regulatory Commission, Washington, DC 20555-0001, telephone (800) 368-5642.

* * * * *

PART 52—LICENSES, CERTIFICATIONS, AND APPROVALS FOR NUCLEAR POWER PLANTS

35. The authority citation for part 52 continues to read as follows:

Authority: Atomic Energy Act of 1954, secs. 103, 104, 147, 149, 161, 181, 182, 183, 185, 186, 189, 223, 234 (42 U.S.C. 2133, 2134, 2167, 2169, 2201, 2231, 2232, 2233, 2235, 2236, 2239, 2273, 2282); Energy Reorganization Act of 1974, secs. 201, 202, 206, 211 (42 U.S.C. 5841, 5842, 5846, 5851); 44 U.S.C. 3504 note.

§ 52.1 [Amended]

36. In § 52.1(a), in the definition for Limited work authorization, remove “Director of New Reactors or the”.

§ 52.15 [Amended]

37. In § 52.15(a), remove “the Director, Office of New Reactors, or the Director, Office of Nuclear Reactor Regulation, as appropriate” and add in its place “the Director, Office of Nuclear Reactor Regulation”.

§ 52.35 [Amended]

38. In § 52.35, remove “Director, Office of New Reactors or Director, Office of Nuclear Reactor Regulation, as appropriate,” and add in its place “Director, Office of Nuclear Reactor Regulation,”.

§ 52.75 [Amended]

39. In § 52.75(a), remove “Director, Office of New Reactors or Director, Office of Nuclear Reactor Regulation, as appropriate” and add in its place “Director, Office of Nuclear Reactor Regulation”.

§ 52.91 [Amended]

40. In § 52.91(a), remove “the Director of New Reactors or the Director of Nuclear Reactor Regulation” and add in its place “the Director of the Office of Nuclear Reactor Regulation”.

§ 52.155 [Amended]

41. In § 52.155(a), remove “Director of New Reactors or the Director of Nuclear Reactor Regulation, as appropriate” and add in its place the title “Director, Office of Nuclear Reactor Regulation”.

PART 55—OPERATORS' LICENSES

42. The authority citation for part 55 continues to read as follows:

Authority: Atomic Energy Act of 1954, secs. 107, 161, 181, 182, 183, 186, 187, 223, 234 (42 U.S.C. 2137, 2201, 2231, 2232, 2233, 2236, 2237, 2273, 2282); Energy Reorganization Act of 1974, secs. 201, 202 (42 U.S.C. 5841, 5842); Nuclear Waste Policy Act of 1982, sec. 306 (42 U.S.C. 10226); 44 U.S.C. 3504 note.

Section 55.61 also issued under Atomic Energy Act secs. 186, 187 (42 U.S.C. 2236, 2237).

§ 55.5 [Amended]

43. In § 55.5:

a. In paragraphs (a)(1) and (b)(1), remove “or Director, Office of New Reactors, as appropriate”;

b. In paragraph (b)(2), remove “Director, Office of New Reactors or Director, Office of Nuclear Reactor Regulation, as appropriate,” and add in its place “Director, Office of Nuclear Reactor Regulation,”; and

c. In paragraph (b)(3), remove “Division of Policy and Rulemaking” and add in its place “Division of Advanced Reactors and Non-Power Production and Utilization Facilities”.

PART 71—PACKAGING AND TRANSPORTATION OF RADIOACTIVE MATERIAL

44. The authority citation for part 71 continues to read as follows:

Authority: Atomic Energy Act of 1954, secs. 53, 57, 62, 63, 81, 161, 182, 183, 223, 234, 1701 (42 U.S.C. 2073, 2077, 2092, 2093, 2111, 2201, 2232, 2233, 2273, 2282, 2297f); Energy Reorganization Act of 1974, secs. 201, 202, 206, 211 (42 U.S.C. 5841, 5842, 5846, 5851); Nuclear Waste Policy Act of 1982, sec. 180 (42 U.S.C. 10175); 44 U.S.C. 3504 note.

Section 71.97 also issued under Sec. 301, Pub. L. 96-295, 94 Stat. 789 (42 U.S.C. 5841 note).

§§ 71.1, 71.95, and 71.101 [Amended]

45. In §§ 71.1, 71.95, and 71.101, wherever it appears, remove “Division of Spent Fuel Management” and add in its place “Division of Fuel Management”.

§ 71.17 [Amended]

46. In § 71.17(c)(3), remove “Division of Spent Fuel Storage and Transportation” and add in its place “Division of Fuel Management”.

PART 72—LICENSING REQUIREMENTS FOR THE INDEPENDENT STORAGE OF SPENT NUCLEAR FUEL, HIGH-LEVEL RADIOACTIVE WASTE, AND REACTOR-RELATED GREATER THAN CLASS C WASTE

47. The authority citation for part 72 continues to read as follows:

Authority: Atomic Energy Act of 1954, secs. 51, 53, 57, 62, 63, 65, 69, 81, 161, 182, 183, 184, 186, 187, 189, 223, 234, 274 (42 U.S.C. 2071, 2073, 2077, 2092, 2093, 2095, 2099, 2111, 2201, 2210e, 2232, 2233, 2234, 2236, 2237, 2238, 2273, 2282, 2021); Energy Reorganization Act of 1974, secs. 201, 202, 206, 211 (42 U.S.C. 5841, 5842, 5846, 5851); National Environmental Policy Act of 1969 (42 U.S.C. 4332); Nuclear Waste Policy Act of 1982, secs. 117(a), 132, 133, 134, 135, 137, 141, 145(g), 148, 218(a) (42 U.S.C. 10137(a), 10152, 10153, 10154, 10155, 10157, 10161, 10165(g), 10168, 10198(a)); 44 U.S.C. 3504 note.

§§ 72.4, 72.16, and 72.44 [Amended]

48. In §§ 72.4, 72.16, and 72.44, wherever it appears, remove “Division of Spent Fuel Management” and add in its place “Division of Fuel Management”.

§ 72.76 [Amended]

49. In § 72.76(a), remove “Division of Fuel Cycle Safety Safeguards, and Environmental Review” and add in its place “Division of Fuel Management”.

§ 72.78 [Amended]

50. In § 72.78(a), remove “Division of Fuel Cycle Safety, Safeguards, and Environmental Review” and add in its place “Division of Fuel Management”.

PART 73—PHYSICAL PROTECTION OF PLANTS AND MATERIALS

51. The authority citation for part 73 continues to read as follows:

Authority: Atomic Energy Act of 1954, secs. 53, 147, 149, 161, 170D, 170E, 170H, 170I, 223, 229, 234, 1701 (42 U.S.C. 2073, 2167, 2169, 2201, 2210d, 2210e, 2210h, 2210i, 2273, 2278a, 2282, 2297f); Energy Reorganization Act of 1974, secs. 201, 202 (42 U.S.C. 5841, 5842); Nuclear Waste Policy Act of 1982, secs. 135, 141 (42 U.S.C. 10155, 10161); 44 U.S.C. 3504 note.

Section 73.1 also issued under Nuclear Waste Policy Act secs. 135, 141 (42 U.S.C. 10155, 10161).

Section 73.37(b)(2) also issued under Sec. 301, Public Law 96-295, 94 Stat. 789 (42 U.S.C. 5841 note).

Section 73.37(f) also issued under Sec. 301, Pub. L. 96-295, 94 Stat. 789 (42 U.S.C. 5841 note).

§ 73.4 [Amended]

52. In § 73.4(a), remove “Director, Office of New Reactors,”.

§ 73.46 [Amended]

53. In § 73.46(i)(1), remove “Division of Fuel Cycle Safety, Safeguards, and Environmental Review” and add in its place “Division of Fuel Management”.

PART 74—MATERIAL CONTROL AND ACCOUNTING OF SPECIAL NUCLEAR MATERIAL

54. The authority citation for part 74 continues to read as follows:

Authority: Atomic Energy Act of 1954, secs. 53, 57, 161, 182, 223, 234, 1701 (42 U.S.C. 2073, 2077, 2201, 2232, 2273, 2282, 2297f); Energy Reorganization Act of 1974, secs. 201, 202 (42 U.S.C. 5841, 5842); 44 U.S.C. 3504 note.

§§ 74.13 and 74.15 [Amended]

55. In §§ 74.13 and 74.15, wherever it appears, remove “Division of Fuel Cycle Safety, Safeguards, and Environmental Review” and add in its place “Division of Fuel Management”.

PART 100—REACTOR SITE CRITERIA

56. The authority citation for part 100 continues to read as follows:

Authority: Atomic Energy Act of 1954, secs. 103, 104, 161, 182 (42 U.S.C. 2133, 2134, 2201, 2232); Energy Reorganization Act of 1974, secs. 201, 202 (42 U.S.C. 5841, 5842); 44 U.S.C. 3504 note.

§ 100.4 [Amended]

57. In § 100.4, remove “or Director, Office of New Reactors, as appropriate”.

PART 140—FINANCIAL PROTECTION REQUIREMENTS AND INDEMNITY AGREEMENTS

58. The authority citation for part 140 continues to read as follows:

Authority: Atomic Energy Act of 1954, secs. 161, 170, 223, 234 (42 U.S.C. 2201, 2210, 2273, 2282); Energy Reorganization Act of 1974, secs. 201, 202 (42 U.S.C. 5841, 5842); 44 U.S.C. 3504 note.

§ 140.5 [Amended]

59. In § 140.5, remove “Director, Office of New Reactors,”.

§ 140.6 [Amended]

60. In § 140.6(a), remove “Director, Office of New Reactors,”.

PART 150—EXEMPTIONS AND CONTINUED REGULATORY AUTHORITY IN AGREEMENT STATES AND IN OFFSHORE WATERS UNDER SECTION 274

61. The authority citation for part 150 continues to read as follows:

Authority: Atomic Energy Act of 1954, secs. 11, 53, 81, 83, 84, 122, 161, 181, 223, 234, 274 (42 U.S.C. 2014, 2201, 2231, 2273, 2282, 2021); Energy Reorganization Act of 1974, sec. 201 (42 U.S.C. 5841); Nuclear Waste Policy Act of 1982, secs. 135, 141 (42 U.S.C. 10155, 10161); 44 U.S.C. 3504 note.

Sections 150.3, 150.15, 150.15a, 150.31, 150.32 also issued under Atomic Energy Act secs. 11e(2), 81, 83, 84 (42 U.S.C. 2014e(2), 2111, 2113, 2114).

Section 150.14 also issued under Atomic Energy Act sec. 53 (42 U.S.C. 2073).

Section 150.15 also issued under Nuclear Waste Policy Act sec. 135 (42 U.S.C. 10155, 10161).

Section 150.17a also issued under Atomic Energy Act sec. 122 (42 U.S.C. 2152).

Section 150.30 also issued under Atomic Energy Act sec. 234 (42 U.S.C. 2282).

§§ 150.16 and 150.17 [Amended]

62. In §§ 150.16 and 150.17:

a. Wherever it appears, remove “Division of Fuel Cycle Safety, Safeguards, and Environmental Review” and add in its place “Division of Fuel Management”; and

b. Wherever it appears, remove “Division of Fuel Cycle Safety and Safeguards” and add in its place “Division of Fuel Management”.

Dated at Rockville, Maryland, this 22nd day of November, 2019.
For the Nuclear Regulatory Commission.
Helen Chang,
Acting Chief, Regulatory Analysis and Rulemaking Support Branch, Division of Rulemaking, Environmental, and Financial Support, Office of Nuclear Material Safety and Safeguards.

[FR Doc. 2019-25847 Filed 11-27-19; 8:45 am]

BILLING CODE 7590-01-P